DEPARTMENT OF COMMERCE

International Trade Administration

[A-427-009]

Industrial Nitrocellulose From France: Notice of Extension of Time Limit for Preliminary Results of Antidumping Duty Administrative Review

AGENCY: Import Administration, International Trade Administration, Department of Commerce.

ACTION: Notice of extension of time limit for preliminary results of antidumping duty administrative review.

SUMMARY: The Department of Commerce is extending the time limit for the preliminary results of the administrative review of the antidumping duty order on industrial nitrocellulose from France. The review covers one manufacturer/exporter, Bergerac, N.C. The period of review is August 1, 1999, through July 31, 2000.

EFFECTIVE DATE: April 24, 2001.

FOR FURTHER INFORMATION CONTACT: David Dirstine, AD/CVD Enforcement, Import Administration, International Trade Administration, U.S. Department of Commerce, 14th Street and Constitution Avenue, N.W., Washington, DC 20230; telephone: (202) 482-4033.

The Applicable Statute

Unless otherwise indicated, all citations to the statute are references to the provisions effective January 1, 1995, the effective date of the amendments made to the Tariff Act of 1930 (the Act) by the Uruguay Round Agreements Act. In addition, unless otherwise indicated, all citations to the Department of Commerce's (the Department's) regulations are to 19 CFR Part 351 (1999).

Extension of Time Limits for Preliminary Results

The Department of Commerce (the Department) received a request to conduct an administrative review of the antidumping duty order on industrial nitrocellulose from France. On October 2, 2000, the Department initiated this administrative review covering the period August 1, 1999, through July 31, 2000. However, due to complexity of the issues in this case, such as the initiation of a cost investigation, how U.S. sales are to be compared to home-market sales, how difference-in-merchandise adjustments are calculated, and a statutorily required verification of information submitted in the instant review, it is not practicable to complete this review within the time limits mandated by section 751(a)(3)(A) of the Act. Therefore, in accordance with that section, the Department is extending the time limit for the preliminary results fully to August 31, 2001. The Department intends to issue the final results of review 120 days after the publication of the preliminary results. This extension of the time limit is in accordance with section 751(a)(3)(A) of the Act.

Dated: April 12, 2001.
Louis Apple,
Acting Deputy Assistant Secretary for AD/CVD Enforcement I.

[FR Doc. 01-10153 Filed 4-23-01; 8:45 am]

BILLING CODE 3510-DS-P